ARCHITECTURAL AND TRANSPORTATION BARRIERS COMPLIANCE BOARD

36 CFR Part 1196

[Docket No. ATBCB-2013-0003]

RIN 3014-AA11

Passenger Vessels Accessibility Guidelines

AGENCY: Architectural and Transportation Barriers Compliance Board.

ACTION: Notice of proposed rulemaking; extension of comment period.

SUMMARY: The Architectural and Transportation Barriers Compliance Board (Access Board) is extending until January 24, 2014, the comment period for the notice entitled “Passenger Vessels Accessibility Guidelines,” that appeared in the Federal Register on June 25, 2013. In that notice, the Access Board proposed accessibility guidelines for passenger vessels and requested comments by September 23, 2013. The Access Board is taking this action to allow interested persons additional time to submit comments.

DATES: For the proposed rule published June 25, 2013 (78 FR 38102), submit comments by January 24, 2014.

ADDRESSES: Submit comments by any of the following methods:

• Federal eRulemaking Portal: http://www.regulations.gov. Follow the instructions for submitting comments. Regulations.gov ID for this docket is ATBCB-2013-0003.

• Email: pvag@access-board.gov. Include docket number ATBCB-2013-0003 in the subject line of the message.

• Fax: 202-272-0081.

• Mail or Hand Delivery/Courier: Paul Beatty, Access Board, 1331 F Street NW., Suite 1000, Washington, DC 20004-1111.

All comments received, including any personal information provided, will be posted without change to http://www.regulations.gov and are available for public viewing.

FOR FURTHER INFORMATION CONTACT: Paul Beatty, Access Board, 1331 F Street NW., Suite 1000, Washington, DC 20004-1111. Telephone: (202) 272-0012 (voice) or (202) 272-0072 (TTY). Email address: pvag@access-board.gov.

SUPPLEMENTARY INFORMATION: On June 25, 2013, the Architectural and Transportation Barriers Compliance Board (Access Board) issued proposed accessibility guidelines for the construction and alteration of passenger vessels covered by the Americans with Disabilities Act to ensure that the vessels are readily accessible to and usable by passengers with disabilities. See 78 FR 38102, June 25, 2013. In that notice, the Access Board requested comments by September 23, 2013.

On July 15, 2013, the Cruise Lines International Association requested that the 90-day comment period be extended by an additional 120 days to review and more fully assess the proposed rule. Although the Access Board has already provided a 90-day comment period and has held a public hearing on the proposed rule, the Board will provide additional time for the public to submit comments on this proposed rule. The new comment period ends on January 24, 2014.

David M. Capozzi,
Executive Director.

[FR Doc. 2013-19595 Filed 8-12-13; 8:45 am]

BILLING CODE 8150-01-P